Memorandum of February 3, 2012

Delegation of Authority Pursuant to Sections 110(d)(4) and 110(f) of the Trafficking Victims Protection Act of 2000, as Amended

Memorandum for the Secretary of State

By the authority vested in me as President by the Constitution and the laws of the United States of America, including section 301 of title 3, United States Code, I hereby delegate to you the authority conferred upon the President by the Trafficking Victims Protection Act of 2000 (Division A of Public Law 106-386), as amended (the “Act”), to determine, consistent with sections 110(d)(4) and 110(f) of the Act, with respect to Burma for fiscal year 2012, that assistance described in section 110(d)(1)(B) of the Act would promote the purposes of the Act or is otherwise in the national interest of the United States.

You are authorized and directed to publish this memorandum in the Federal Register.

THE WHITE HOUSE,

Washington, February 3, 2012

[FR Doc. 2012-4600

Filed 2-23-12; 11:15 am]

Billing code 4710-10-P